FEDERAL COMMUNICATIONS COMMISSION

47 CFR Part 73

[DA 04-1199; MM Docket No. 01-271; RM-10278; 10380]

Radio Broadcasting Services; O'Donnell, Post and Roaring Springs, TX

AGENCY: Federal Communications Commission.

ACTION: Final rule.

SUMMARY: The Audio Division, at the request of Maurice Salsa, allots Channel 249A at O'Donnell and Roaring Springs, Texas, as each community's first local aural transmission service (RM-10380). At the request of Katherine Pyeatt, we also dismiss the petition for rule making proposing the allotment of Channel 249C2 at Post, Texas (RM-10278). See 66 FR.52734, October 17, 2001. Channel 249A can be allotted to O'Donnell in compliance with the Commission's minimum distance separation requirement with a site restriction of 14.6 kilometers (9.1 miles) east to avoid a short-spacing to the vacant allotment site for Channel 248C2, Denver City, Texas, and the licensed site for Station KODM(FM), Channel 250C1, Texas. The coordinates for Channel 249A at O'Donnell are 32-55-32 North Latitude and 101-40-59 West Longitude. Likewise, Channel 249A can be allotted to Roaring Springs with a site restriction of 14.8 kilometers (9.2 miles) northeast to avoid a short-spacing to the proposed allotment for Channel 250C3 at Crowell, Texas. The coordinates for Channel 249A at Roaring Springs are 33-57-42 North Latitude and 100-42-53 West Longitude.

DATES: Effective June 18, 2004. A filing window for Channel 249A at O'Donnell and Roaring Springs, Texas, will not be opened at time. Instead, the issue of opening a filing window for these channels will be addressed by the Commission in a subsequent order.

FOR FURTHER INFORMATION CONTACT: Sharon P. McDonald, Media Bureau, (202) 418-2180.

SUPPLEMENTARY INFORMATION: This is a synopsis of the Commission's Report and Order, MM Docket No. 01-271, adopted April 30, 2004, and released May 4, 2004. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20054.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 54, 303, 334, 336.

§ 73.202 [Amended]

2. Section 73.202(b), the Table of FM Allotments under Texas, is amended by adding O'Donnell, Channel 249A; and by adding Roaring Springs, Channel 249A.

Federal Communications Commission.
John A. Karousos,
Assistant Chief, Audio Division, Media Bureau.

[FR Doc. 04-11543 Filed 5-20-04; 8:45 am]

BILLING CODE 6712-01-P